DEPARTMENT OF JUSTICE

Parole Commission

Sunshine Act Meeting

TIME AND DATE: 1:30 p.m., Thursday, March 8, 2012.

PLACE: U.S. Parole Commission, 90 K Street NE., 3rd Floor, Washington, DC.

STATUS: Closed.

MATTERS TO BE CONSIDERED: Consideration of two original jurisdiction cases pursuant to 28 CFR 2.27.

CONTACT PERSON FOR MORE INFORMATION: Patricia W. Moore, Staff Assistant to the Chairman, U.S. Parole Commission, 90 K Street NE., 3rd Floor, Washington, DC 20530, (202) 346-7001.

Dated: February 27, 2012.
Rockne Chickinell,
General Counsel, U.S. Parole Commission.

[FR Doc. 2012-5183 Filed 2-28-12; 4:15 pm]

BILLING CODE 4410-31-P